DEPARTMENT OF AGRICULTURE

Food Safety and Inspection Service

[Docket No. FSIS-2016-0013]

Codex Alimentarius Commission: Meeting of the Codex Alimentarius Commission

AGENCY: Office of the Deputy Under Secretary for Food Safety, USDA.

ACTION: Notice of public meeting and request for comments.

SUMMARY: The Office of the Deputy Under Secretary for Food Safety, U.S. Department of Agriculture (USDA), is sponsoring a public meeting on June 10, 2016. The objective of the public meeting is to provide information and receive public comments on agenda items and draft United States (U.S.) positions to be discussed at the 39th Session of the Codex Alimentarius Commission (CAC) taking place in Rome, Italy, June 27-July 1, 2016. The Deputy Under Secretary for Food Safety recognizes the importance of providing interested parties the opportunity to obtain background information on the 39th Session of the CAC and to address items on the agenda.

DATES: The public meeting is scheduled for Friday, June 10, 2016, from 1:00 p.m.-4:00 p.m.

ADDRESSES: The public meeting will take place at the Jamie L. Whitten Building, United States Department of Agriculture (USDA), 1400 Independence Avenue SW., Room 107-A, Washington, DC 20250. Documents related to the 39th Session of the CAC will be accessible via the Internet at the following address: http://www.codexalimentarius.org/meetings-reports/en/.

The U.S. Delegate to the 39th Session of the CAC invites U.S. interested parties to submit their comments electronically to the following email address: Barbara.McNiff@fsis.usda.gov.

Call-in-Number: If you wish to participate in the public meeting for the 39th Session of the CAC by conference call, please use the call-in-number and the participant code listed below:

Call-in-Number: 1-888-844-9904.

The participant code will be posted on the Web page below: http://www.fsis.usda.gov/wps/portal/fsis/topics/international-affairs/us-codex-alimentarius/public-meetings.

Registration: Attendees may register to attend the public meeting by emailing barbara.mcniff@fsis.usda.gov by June 3, 2016. Early registration is encouraged as it will expedite entry into the building. Attendees should bring photo identification and plan for adequate time to pass through security screening systems. Attendees that are not able to attend the meeting in person, but wish to participate may do so by phone.

FOR FURTHER INFORMATION ABOUT THE 39th Session of the CAC CONTACT: Barbara McNiff, U.S. Codex Office, 1400 Independence Avenue SW., Room 4861, Washington, DC 20250, Telephone: (202) 690-4719, Fax: (202)720-3157, Email: Barbara.Mcniff@fsis.usda.gov.

FOR FURTHER INFORMATION ABOUT THE PUBLIC MEETING CONTACT: Jasmine Curtis, U.S. Codex Office, 1400 Independence Avenue SW., Room 4865, Washington, DC 20250, Telephone: (202) 205-7760, Fax: (202) 720-3157, Email: Jasmine.Curtis@fsis.usda.gov.

SUPPLEMENTARY INFORMATION:

Background

The CAC was established in 1963 by two United Nations organizations, the Food and Agriculture Organization (FAO) and the World Health Organization (WHO). Through adoption of food standards, codes of practice, and other guidelines developed by its committees, and by promoting their adoption and implementation by governments, the CAC seeks to protect the health of consumers and ensure fair practices in the food trade; promotes coordination of all food standards work undertaken by international governmental and non-governmental organizations; determines priorities and initiates and guides the preparation of draft standards through and with the aid of appropriate organizations; finalizes standards elaborated and publishes them in a Codex Alimentarius (food code) either as regional or worldwide standards, together with international standards already finalized by other bodies, wherever this is practicable; and amends published standards, as appropriate, in the light of new developments.

Issues To Be Discussed at the Public Meeting

The following items on the Agenda for the 39th Session of the CAC will be discussed during the public meeting:

• Report by the Chairperson on the 71st Session of the Executive Committee

• Final adoption of Codex text at Steps 8, 5/8 and 5A

• Adoption of Codex texts at Step 5

• Revocation of Codex texts

• Proposals for New Work

• Discontinuation of Work

• Amendments to Codex Standards and Related Texts

• Codex Work Management and Functioning of the Executive Committee

• Relations between FAO and WHO policies, strategies and guidelines and Codex work

• Codex work on antimicrobial resistance

• Matters referred to the Commission by Codex Committees and Task Forces

• Codex Budget planning (2016-17) and report on expenditures (2014-15)

• FAO/WHO Scientific Support to Codex (report on activities)

• FAO/WHO Scientific Support to Codex (budget and expenditure)

• FAO/WHO Scientific Support to Codex (increasing sustainability)

• FAO and WHO Capacity Development Activities (report on activities)

• FAO/WHO Project and Trust Fund for Enhanced Participation in Codex (final report of the preceding project ended in 2015)

• FAO/WHO Project and Trust Fund for enhances Participation in Codex (status report of the successor initiative started in January 2016)

• Relations between the Codex Alimentarius Commission and other International Organizations

• Elections of the Chairperson and Vice-Chairpersons

• Designation of Countries responsible for appointing the Chairpersons of Codex Committees

• Food integrity/authenticity

• Visa issue for attendance at Codex meetings

• 2018

• Other Business

Each issue listed will be fully described in documents distributed, or to be distributed, by the Secretariat before the Meeting. Members of the public may access or request copies of these documents (see ADDRESSES).

Public Meeting

At the June 10, 2016, public meeting, draft U.S. positions on the agenda items will be described and discussed, and attendees will have the opportunity to pose questions and offer comments. Written comments may be offered at the meeting or sent to the U.S. Delegate for the 39th Session of the CAC (see ADDRESSES). Written comments should state that they relate to activities of the 39th Session of the CAC.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250 -9410.

Fax: (202) 690-7442.

Email: program.intake@usda.gov.

Persons with disabilities who require alternative means for communication (Braille, large print, audiotape, etc.), should contact USDA's TARGET Center at (202) 720-2600 (voice and TDD).

Done at Washington, DC on April 20, 2016.
Mary Frances Lowe,
U.S. Manager for Codex Alimentarius.

[FR Doc. 2016-09516 Filed 4-22-16; 8:45 am]

BILLING CODE 3410-DM-P